DEPARTMENT OF TRANSPORTATION

Federal Aviation Administration

Second Meeting, RTCA Special Committee 216: Aeronautical System Security

AGENCY: Federal Aviation Administration (FAA), DOT.

ACTION: Notice of RTCA Special Committee 216 meeting Aeronautical Systems Security.

SUMMARY: The FAA is issuing this notice to advise the public of a meeting of RTCA Special Committee 216: Aeronautical Systems Security.

DATES: The meeting will be held on December 11-13, 2007, from 9 a.m. to 5 p.m.

ADDRESSES: The meeting will be held at ARINC Riva Road, Annapolis, MD.

FOR FURTHER INFORMATION CONTACT: RTCA Secretariat, 1828 L Street, NW., Suite 805, Washington, DC 20036-5133; telephone (202) 833-9339; fax (202) 833-9434; Web site http://www.rtca.org.

Note: Please e-mail Sarah Parpana (SPARPANA@arinc.com) if you plan to attend, so that security arrangements can be made for the meeting. The following information will be needed by ARINC security personnel. Please respond by December 4th.

SUPPLEMENTARY INFORMATION: Pursuant to section 10(a)(2) of the Federal Advisory Committee Act (P.L. 92-463, 5 U.S.C., Appendix 2), notice is hereby given for a Special Committee 216 meeting. The agenda will include:

December 11-13

• Opening Session (Welcome, Introductory and Administrative Remarks, Agenda Overview Minutes and Action Items from First Meeting).

• Presentations WG-72 topics.

• Presentations on ATS topics.

• Presentations on Existing Regulatory topics.

• Presentations on Special topics.

• Organization of Work, Assign Tasks and Workgroups.

• Presentation, Discussion, Recommendations.

• Assignment Action Items.

• Assignment of Responsibilities.

• Closing Session (Other Business, Assignment/Review of Future Work, Establish Agenda, Date and Place of Next Meeting, Closing Remarks, Adjourn).

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on December 13, 2007.
Francisco Estrada C.,
RTCA Advisory Committee.

[FR Doc. 07-5765 Filed 11-20-07; 8:45 am]

BILLING CODE 4910-13-M